DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, email the SAMHSA Reports Clearance Officer at samhsapra@samhsa.hhs.gov.

Project: SAMHSA Unified Client-Level Performance Reporting Tool (SUPRT)—(OMB No. 0930-NEW)

SAMHSA is the agency within the U.S. Department of Health and Human Services that leads public health efforts to advance the behavioral health of the nation. SAMHSA is seeking approval for the new SAMHSA Unified Performance Reporting Tool (SUPRT) which will (1) combine and align the existing client-level performance instrument for the SAMHSA Center for Substance Abuse Treatment (CSAT) and National Outcomes Measures (NOMs) instrument for the SAMHSA Center for Mental Health Services (CMHS), and (2) create a two-component tool that will allow for a client (or caregiver) self-administered questionnaire (called SAMHSA Unified Performance Reporting Tool (SUPRT)-C: Client or Caregiver Form or `SUPRT-C') and a grantee completion of administrative data (called SAMHSA Unified Performance Reporting Tool (SUPRT)-A: Administrative Report or `SUPRT-A'). The revisions also allow for the client portion to move from interviewer-administered to self-administered with the aim of potentially reducing burden and increasing reporting accuracy.

SUPRT will allow SAMHSA to (1) continue to meet Government Performance and Results Modernization Act (GPRAMA) of 2010 reporting requirements; (2) reduce the scope and associated burden of questions requiring responses directly from clients; (3) standardize questions across programs wherever possible; and, (4) elicit programmatic information that will help to assess the impact of discretionary grant programs on the achievement of SAMHSA's 2023-2026 Strategic Priority Area goals and objectives.

Furthermore, this effort is designed to align performance reporting requirements with other parts of the Federal Statistical System. For example, to the extent possible, SAMHSA aims to align with measurement indicators used by the Centers for Medicare & Medicaid Services; the Centers for Disease Control and Prevention; the U.S. Census Bureau; and the Office of Management and Budget. For instance, the race and ethnicity question is aligned with the Office of Management and Budget's race and ethnicity standards.

Currently, over 7,500 grantees across a range of prevention, harm reduction, treatment, and recovery support discretionary grant programs have reported program performance data into SAMHSA's Performance Accountability and Reporting System (SPARS) that serves as a central data repository. SPARS functions as a performance management system that captures information on the substance use and mental health services delivered via the range of SAMHSA's discretionary grants.

The new SUPRT tool reflects diverse feedback SAMHSA obtained through multiple listening sessions conducted with key stakeholders, in addition to extensive deliberations conducted by different working groups within SAMHSA. Accordingly, SUPRT aligns with some prior questions and deletes other questions from the client-level performance reporting tools currently in use. SUPRT also incorporates select new measures/questions into a multi-component client-level tool. SAMHSA will provide guidance about these changes, specifying which items grantees can complete using administrative data and which can be self-administered to clients. This new SUPRT will reduce client reporting burden and is projected to enhance the accuracy of the collected performance data.

SAMHSA will use the data collected through the new SUPRT for annual reporting required by GPRAMA, grantee monitoring, and continuous improvement of its discretionary grant programs. The SUPRT will also align with, and strengthen, SAMHSA's complementary evaluation activities of its discretionary grant programs providing client services.

The information collected through this process will allow SAMHSA to (1) monitor and report on implementation and overall performance of the associated grant programs; (2) advance SAMHSA's proposed performance goals; and (3) assess the accountability and performance of its discretionary grant programs, focused on efforts that promote mental health, prevent substance use, and provide treatments and supports to foster recovery.

The first component of SUPRT, the SUPRT-C, is to be completed by clients or caregivers. SUPRT-C is composed of (1) standardized questions about demographic information (asked directly of clients at baseline only); (2) social determinants of health (asked directly of clients at baseline and at 3 or 6 months post baseline reassessment); and, (3) recovery, quality of life, and client goal measures as impacted by services received (asked of clients at baseline and reassessment during the client's first year of treatment, then annually). Therefore, not all questions are asked of each respondent (child/adult) or at each information collection period (e.g., baseline, reassessment, annual).

The second component of SUPRT, SUPRT-A, is to be completed by grantees. SUPRT-A consists of a streamlined set of questions describing clients' behavioral health history, screening and diagnosis items, and services provided to clients. SUPRT-A is collected from client-records kept by the grantee, for example in paper or electronic health records (EHRs). Grantees may need to adjust their record keeping, intake or behavioral health history taking to ensure that they are able to complete the SUPRT-A. Question(s) about services provided to the client will only be required at reassessment and annually.

The chart below summarizes the annualized burden for this project.

SAMHSA tool | Included domains | Number of respondents | Responses per respondent | Total responses | Hours per response | Total hour burden | Hourly cost | Total cost
Client-level baseline assessment—SUPRT-C Adult | Demographics, SDOH, Core Outcomes of Recovery, Goals | 488,775 | 1 | 488,775 | 0.250 | 122,194 | $28.9 | $3,530,177
Client-level baseline assessment—SUPRT-C Youth, Child, or Young Child | Demographics, SDOH | 91,225 | 1 | 91,225 | 0.133 | 12,163 | 28.9 | 351,399
Client-level baseline—SUPRT-A | Record Management, Behavioral Health History, Behavioral Health Screening, Behavioral Health Diagnoses | 2,125 | 314 | 668,250 | 0.280 | 187,110 | 28.9 | 5,405,608
Client-level 3- or 6-month reassessment—SUPRT-C Adult | SDOH, Core Outcomes of Recovery, Goals | 329,212 | 1 | 329,212 | 0.167 | 54,869 | 28.9 | 1,585,156
Client-level 3- or 6-month reassessment—SUPRT-C Youth, Child, or Young Child | SDOH | 61,444 | 1 | 61,444 | 0.050 | 3,072 | 28.9 | 88,756
Client-level 3- or 6-month—SUPRT-A | Record Management, Behavioral Health History, Behavioral Health Screening, Behavioral Health Diagnoses, Services Received | 2,125 | 212 | 450,097 | 0.330 | 148,532 | 28.9 | 4,291,086
Client-level close-out record—SUPRT-A | Record Management, Services Received | 2,125 | 256 | 543,097 | 0.100 | 54,310 | 28.9 | 1,569,551
Client-level annual SUPRT-C Adult | Core Outcomes of Recovery, Goals | 91,540 | 1 | 91,540 | 0.117 | 10,680 | 28.9 | 308,535
Client-level annual—SUPRT-A | Record Management, Behavioral Health History, Behavioral Health Screening, Behavioral Health Diagnosis, Services Received | 2,125 | 59 | 125,153 | 0.330 | 41,300 | 28.9 | 1,193,170
Total |  | 1,070,696 |  | 2,848,793 |  | 634,230 |  | 18,323,437

Written comments and recommendations concerning the proposed information collection should be sent by January 6, 2025 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to 202-395-7285. Commenters may also mail them to: Office of Management and Budget, Office of Information and Regulatory Affairs, New Executive Office Building, Room 10102, Washington, DC 20503.

Alicia Broadus,
Public Health Advisor.

[FR Doc. 2024-28556 Filed 12-5-24; 8:45 am]

BILLING CODE 4162-20-P